GENERAL SERVICES ADMINISTRATION

President's Homeland Security Advisory Council

AGENCY: Office of Governmentwide Policy, General Services Administration.

ACTION: Notice of Federal Advisory Committee meeting.

SUMMARY: The President's Homeland Security Advisory Council (PHSAC or Council) will meet in closed session on Monday, October 21, 2002, in Washington, DC. The PHSAC will meet to receive briefings on sensitive homeland security matters and to review and discuss the draft National Strategy for the Physical Protection of Critical Infrastructures and Key Assets.

Objectives: The President's Homeland Security Advisory Council was established by Executive Order 13260 (67 FR 13241, March 21, 2002). The objectives of the PHSAC are to provide advice and recommendations to the President of the United States through the Assistant to the President for Homeland Security on matters relating to homeland security.

Basis for Closed Meeting: In accordance with section 10(d) of the Federal Advisory Committee Act (FACA), Public Law 92-463, as amended (5 U.S.C. App.), it has been determined that this PHSAC meeting concerns matters sensitive to homeland security within the meaning of 5 U.S.C. 552b(c)(7) and (9)(B) and that, accordingly, the meeting will be closed to the public.

Public Comments: Members of the public who wish to file a written statement with the PHSAC may do so by mail to Mr. Charles Howton at the following address: President's Homeland Security Advisory Council, U.S. General Services Administration (GSA/MC, Room G-230), 1800 F St., NW., Washington, DC 20405. Comments also may be sent to Charles Howton by e-mail at charles.howton@gsa.gov, or by facsimile (FAX) to (202) 273-3559.

Dated: October 1, 2002.
James L. Dean,
Director, Committee Management Secretariat, Office of Governmentwide Policy, General Services Administration.

[FR Doc. 02-25276 Filed 10-3-02; 8:45 am]

BILLING CODE 6820-34-P